DEPARTMENT OF TRANSPORTATION

Federal Aviation Administration

14 CFR Part 39

[Docket No. FAA-2013-0479; Directorate Identifier 2011-SW-070-AD; Amendment 39-17649; AD 2013-22-17]

RIN 2120-AA64

Airworthiness Directives; Eurocopter France Helicopters

AGENCY: Federal Aviation Administration (FAA), DOT.

ACTION: Final rule.

SUMMARY: We are adopting a new airworthiness directive (AD) for Eurocopter France (Eurocopter) Model AS332C, AS332L, AS332L1, AS332L2, and EC225LP helicopters. This AD requires inspecting the intermediate gearbox (IGB) fairing for a crack and inspecting the IGB fairing gutter (gutter), if installed, for a crack, separation, or interference. This AD is prompted by reports of cracks, separation of the IGB fairing from the gutter and attachment supports, and subsequent interference with the tail rotor (T/R) inclined drive shaft. These actions are intended to detect a crack and prevent separation of the IGB fairing, which could result in interference with the T/R inclined drive shaft and subsequent loss of control of the helicopter.

DATES: This AD is effective December 9, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Discussion

On June 5, 2013, at 78 FR 33764, the Federal Register published our notice of proposed rulemaking (NPRM), which proposed to amend 14 CFR part 39 to include an AD that would apply to Eurocopter Model AS332C, AS332L, AS332L1, AS332L2, and EC225LP helicopters with an intermediate gearbox (IGB) fairing, part number (P/N) 332A24-0303-0501, P/N 332A24-0303-0601, P/N 332A081391.00, or P/N 332A081391.01 installed. The NPRM proposed to require, for helicopters with an IGB fairing with a gutter, repetitively inspecting the gutter, IGB fairing, and attachment supports for a crack, separation, or interference. For helicopters with an IGB fairing without a gutter, the NPRM proposed to require repetitively inspecting the IGB fairing and attachment supports for a crack. If during any inspection there is a crack, interference, or separation, the NPRM proposed replacing the cracked or damaged part with an airworthy part. The proposed requirements were intended to detect a crack and prevent separation of the IGB fairing, which could result in interference with the T/R inclined drive shaft and subsequent loss of control of the helicopter.

The NPRM was prompted by AD No. 2011-0189-E, dated September 21, 2011 (AD 2011-0189-E), issued by the European Aviation Safety Agency (EASA), which is the Technical Agent for the Member States of the European Union. EASA advises of cracks along the rivet line joining the IGB fairing to the gutter and in the associated attachment points, which have caused some fairings to separate and interfere with the T/R inclined drive shaft. EASA issued AD 2011-0189-E to require inspecting the IGB fairing gutter and also require inspecting the IGB fairing and attachment supports for cracks every 15 flight hours.

Comments

We gave the public the opportunity to participate in developing this AD, but we did not receive any comments on the NPRM (78 FR 33764, June 5, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Related Service Information

Eurocopter has issued one emergency alert service bulletin (ASB) with three numbers, revision 4, dated September 27, 2011: ASB No. 53.01.47 for Model AS 332 series helicopters, ASB No. 53.00.48 for Model AS532 series helicopters, and ASB No. 53A001 for Model EC225 and EC725 helicopters. The ASB requires inspecting the IGB fairings and their attachment supports and replacing any cracked or damaged parts every 15 flight hours.

Costs of Compliance

We estimate that this AD will affect 10 helicopters of U.S. Registry. We estimate that operators may incur the following costs in order to comply with this AD. Inspecting the IGB fairing and attachment supports require about 0.5 work hours at an average labor rate of $85 per work hour, for a total cost per helicopter of $43 per inspection cycle. The total cost to the U.S. operator fleet will be $430 per inspection cycle. Replacing a cracked IGB fairing would require about 2 work hours at an average labor rate of $85 per work hour, and required parts would cost $1,905, for a total cost per helicopter of $2,075. Replacing a damaged T/R inclined drive shaft tube would require about 2 work hours, and required parts would cost $16,726, for a total cost per helicopter of $16,896. Replacing a damaged hydraulic pipe would require about 2 work hours and required parts would cost $1,202, for a total cost per helicopter of $1,372. Replacing a damaged flight control component would require about 2 work hours, and required parts would cost $440, for a total cost per helicopter of $610.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-22-17 Eurocopter France: Amendment 39-17649; Docket No. FAA-2013-0479; Directorate Identifier 2011-SW-070-AD.

(a) Applicability

This AD applies to Eurocopter France (Eurocopter) Model AS332C, AS332L, AS332L1, AS332L2, and EC225LP helicopters with an intermediate gearbox (IGB) fairing, part number (P/N) 332A24-0303-0501, P/N 332A24-0303-0601, P/N 332A081391.00, or P/N 332A081391.01 installed, certificated in any category.

(b) Unsafe Condition

This AD defines the unsafe condition as a crack in the IGB fairing, which could result in separation of the IGB fairing from its attachment supports, resulting in interference with the tail rotor (T/R) inclined driveshaft, failure of the T/R inclined driveshaft, and subsequent loss of control of the helicopter.

(c) Effective Date

This AD becomes effective December 9, 2013.

(d) Compliance

You are responsible for performing each action required by this AD within the specified compliance time unless it has already been accomplished prior to that time.

(e) Required Actions

Within 15 hours time-in-service (TIS), and thereafter at intervals not to exceed 15 hours TIS:

(1) For all helicopters, inspect the IGB fairing and both attachment supports for a crack. If there is a crack, replace the cracked part with an airworthy part.

(2) For helicopters with an IGB fairing, part number (P/N) 332A24-0303-0501 or P/N 332A24-0303-0601, installed, inspect the IGB fairing gutter (gutter) for a crack. If there is a crack, replace the gutter with an airworthy gutter, and inspect the IGB fairing for separation, or interference between the gutter and the T/R inclined drive shaft, hydraulic pipes, or flight controls.

(i) If there is interference between the gutter and the T/R inclined drive shaft tube, replace the T/R inclined drive shaft tube and the IGB fairing/gutter assembly with an airworthy T/R inclined drive shaft tube and IGB fairing/gutter assembly.

(ii) If there is interference between the gutter and the hydraulic pipes, replace the IGB fairing/gutter assembly with an airworthy IGB fairing/gutter assembly. Inspect the hydraulic pipes for a dent, score, distortion, or chafing. If there is a dent, score, distortion, or chafing, replace the affected hydraulic pipe with an airworthy hydraulic pipe.

(iii) If there is interference between the gutter and the flight controls, replace the IGB fairing/gutter assembly with an airworthy IGB fairing/gutter assembly. Inspect the cables on the left hand side of the pylon, the quadrant on which the cables are coiled, the flight control lever, the rod, and the T/R servo-control operating mechanism for friction, chafing, broken strands, buckling, distortion, or scoring. If there is any friction, chafing, broken strands, buckling, distortion, or scoring, replace the affected flight control component with an airworthy flight control component.

(iv) If there is any separation of the gutter, replace the IBG fairing/gutter assembly with an airworthy fairing/gutter assembly.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Eurocopter Emergency Alert Service Bulletin (EASB) No. 53.01.47 for Model AS 332 helicopters, EASB No. 53.00.48 for Model AS532 helicopters, and EASB No. 53A001 for Model EC225 and EC725 helicopters, all revision 4, dated September 27, 2011, which are not incorporated by reference, contain additional information about the subject of this AD. For service information identified in this AD, contact American Eurocopter Corporation, 2701 N. Forum Drive, Grand Prairie, TX 75052; telephone (972) 641-0000 or (800) 232-0323; fax (972) 641-3775; or at http://www.eurocopter.com/techpub. You may review a copy of the service information at the FAA, Office of the Regional Counsel, Southwest Region, 2601 Meacham Blvd., Room 663, Fort Worth, Texas 76137.

(2) The subject of this AD is addressed in European Aviation Safety Agency (EASA) Emergency AD No. 2011-0189-E, dated September 29, 2011. You may view the EASA AD on the internet in Docket No. FAA-2013-0479 at http://www.regulations.gov.

(h) Subject

Joint Aircraft Service Component (JASC) Code: 5350: Aerodynamic Fairings.

Issued in Fort Worth, Texas, on October 24, 2013.
Kim Smith,
Directorate Manager, Rotorcraft Directorate, Aircraft Certification Service.

[FR Doc. 2013-26052 Filed 11-1-13; 8:45 am]

BILLING CODE 4910-13-P